DEPARTMENT OF COMMERCE

International Trade Administration

[C-580-837]

Certain Cut-to-Length Carbon-Quality Steel Plate From the Republic of Korea: Preliminary Results and Preliminary Intent To Rescind, in Part, the Countervailing Duty Administrative Review; 2021

AGENCY: Enforcement and Compliance, International Trade Administration, Department of Commerce.

SUMMARY: The U.S. Department of Commerce (Commerce) preliminarily determines that certain exporters/producers of certain cut-to-length plate (CTL plate) from the Republic of Korea (Korea) received countervailable subsidies during the period of review (POR), January 1, 2021, through December 31, 2021. We invite interested parties to comment on these preliminary results.

DATES: Applicable March 3, 2023.

FOR FURTHER INFORMATION CONTACT: David Lindgren, AD/CVD Operations, Office III, Enforcement and Compliance, International Trade Administration, U.S. Department of Commerce, 1401 Constitution Avenue NW, Washington, DC 20230; telephone: (202) 482-1671.

SUPPLEMENTARY INFORMATION:

Background

On February 10, 2000, Commerce published in the Federal Register the countervailing duty (CVD) order on CTL plate from Korea.¹ On April 12, 2022, Commerce published in the Federal Register its initiation of the CVD administrative review of the Order for the period January 1, 2021, to December 31, 2021.² On May 2, 2022, Commerce selected Hyundai Steel Company (Hyundai Steel) as the sole mandatory respondent in this administrative review.³

¹ See Notice of Amended Final Determinations: Certain Cut-to-Length Carbon-Quality Steel Plate from India and the Republic of Korea; and Notice of Countervailing Duty Orders: Certain Cut-To-Length Carbon-Quality Steel Plate from France, India, Indonesia, Italy, and the Republic of Korea, 65 FR 6587 (February 10, 2000) (Order).

² See Initiation of Antidumping and Countervailing Duty Administrative Reviews, 87 FR 21619 (April 12, 2022) (Initiation Notice).

³ See Memorandum, “Respondent Selection,” dated May 2, 2022.

On October 5, 2022, Commerce extended the deadline for issuance of the preliminary results of this review by 120 days, until February 28, 2023, in accordance with 19 CFR 351.213(h)(2).⁴

⁴ See Memorandum, “Extension of Deadline for Preliminary Results,” dated October 5, 2022.

A list of topics discussed in the Preliminary Decision Memorandum is included in the appendix to this notice. For a complete description of the events that followed the initiation of this review, see the Preliminary Decision Memorandum.⁵ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Countervailing Duty Administrative Review, 2021: Certain Cut-To-Length Carbon-Quality Steel Plate from the Republic of Korea,” dated concurrently with, and hereby adopted by, this notice (Preliminary Decision Memorandum).

Scope of the Order

The product covered by this Order is certain cut-to-length carbon-quality steel plate. For a complete description of the scope of the Order, see the Preliminary Decision Memorandum.

Preliminary Intent To Rescind Administrative Review, in Part

Based on our analysis of U.S. Customs and Border Protection (CBP) data and comments received from interested parties, we preliminarily determine that two companies, BDP International and Sung Jin Steel Co., Ltd, had no reviewable shipments, sales or entries of subject merchandise during the POR.

Absent any evidence of shipments placed on the record, pursuant to 19 CFR 351.213(d)(3), we intend to rescind the administrative review of these companies in the final results of review. For further information, see “Preliminary Intent to Rescind Administrative Review, in Part” in the Preliminary Decision Memorandum.

Methodology

Commerce is conducting this CVD administrative review in accordance with section 751(a)(l)(A) of the Tariff Act of 1930, as amended (the Act). For each of the subsidy programs found countervailable, we preliminarily determine that there is a subsidy, i.e., a financial contribution by an “authority” that confers a benefit to the recipient, and that the subsidy is specific.⁶ For a full description of the methodology underlying our conclusions, see the Preliminary Decision Memorandum.

⁶ See sections 771(5)(B) and (D) of the Act regarding financial contribution; section 771(5)(E) of the Act regarding benefit; and section 771(5A) of the Act regarding specificity.

Rate for Non-Selected Companies Under Review

There are four companies for which a review was requested.⁷ Of those, as discussed above, we intend to rescind the review for two companies that had no reviewable entries during the POR. In addition, Commerce selected one mandatory respondent, Hyundai Steel, for individual examination. Because the rate calculated for mandatory respondent Hyundai Steel is above de minimis and not based entirely on facts available, we have applied the subsidy rate calculated for the mandatory respondent to Dongkuk Steel Mill Co., Ltd., the remaining company subject to this review. This methodology is consistent with our practice for establishing an all-others subsidy rate pursuant to section 705(c)(5)(A) of the Act. For further information on the non-selected respondent rate, refer to the section in the Preliminary Decision Memorandum entitled “Non-Selected Companies Under Review.”

⁷ See Initiation Notice, 87 FR at 21635.

Preliminary Results of Review

As a result of this review, we preliminarily determine the following net countervailable subsidy rates for the period January 1, 2021, through December 31, 2021:

Company | Net countervailable subsidy rate (percent)
Hyundai Steel Company | 1.10
Dongkuk Steel Mill Co., Ltd | 1.10

Assessment Rate

In accordance with 19 CFR 351.221(b)(4)(i), Commerce has preliminarily assigned subsidy rates as indicated above. Consistent with section 751(a)(2)(C) of the Act, upon issuance of the final results, Commerce shall determine, and CBP shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rate

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Disclosure and Public Comment

Commerce intends to disclose to parties to this proceeding the calculations performed in reaching the preliminary results within five days after the date of publication of this notice in the Federal Register.⁸ Case briefs may be submitted to the Assistant Secretary for Enforcement and Compliance.⁹ Interested parties will be notified of the timeline for the submission of such case briefs at a later date. Rebuttal briefs, limited to issues raised in case briefs, may be submitted no later than seven days after the deadline date for case briefs.¹⁰ Pursuant to 19 CFR 351.309(c)(2) and (d)(2), parties who submit case or rebuttal briefs in this review are encouraged to submit with each argument: (1) a statement of the issue; (2) a brief summary of the argument; and (3) a table of authorities. Note that Commerce has temporarily modified certain of its requirements for serving documents containing business proprietary information, until further notice.¹¹

⁸ See 19 CFR 351.224(b).

⁹ See 19 CFR 351.309(c).

¹⁰ See 19 CFR 351.309; see also 19 CFR 351.303 (for general filing requirements).

¹¹ See Temporary Rule Modifying AD/CVD Service Requirements Due to COVID-19; Extension of Effective Period, 85 FR 41363 (July 10, 2020).

Pursuant to 19 CFR 351.310(c), interested parties who wish to request a hearing must do so within 30 days of publication of these preliminary results by submitting a written request to the Assistant Secretary for Enforcement and Compliance using ACCESS.¹² Requests should contain the party's name, address, and telephone number, the number of participants, and a list of the issues to be discussed. Issues raised in the hearing will be limited to those raised in the respective case and rebuttal briefs.¹³ If a request for a hearing is made, Commerce intends to hold the hearing at a time and date to be determined.¹⁴ Parties should confirm the date and time of the hearing two days before the scheduled date. Parties are reminded that all briefs and hearing requests must be filed electronically using ACCESS and received successfully in their entirety by 5:00 p.m. Eastern Time on the due date.

¹² See 19 CFR 351.310(c).

¹³ Id.

¹⁴ See 19 CFR 351.310.

Unless the deadline is extended pursuant to section 751(a)(3)(A) of the Act, Commerce intends to issue the final results of this administrative review, including the results of its analysis of the issues raised by parties in their comments, within 120 days after the date of publication of these preliminary results.

Notification to Interested Parties

This administrative review and notice are issued and published in accordance with sections 751(a)(1) and 777(i)(1) of the Act and 19 CFR 351.213 and 19 CFR 351.221(b)(4).

Dated: February 27, 2023.
Abdelali Elouaradia,
Deputy Assistant Secretary for Enforcement and Compliance.

Appendix

List of Topics Discussed in the Preliminary Decision Memorandum

I. Summary

II. Background

III. Period of Review

IV. Preliminary Intent to Rescind Administrative Review, In Part

V. Non-Selected Company Under Review

VI. Scope of the Order

VII. Subsidies Valuation Information

VIII. Use of Facts Otherwise Available

IX. Analysis of Programs

X. Recommendation

[FR Doc. 2023-04440 Filed 3-2-23; 8:45 am]

BILLING CODE 3510-DS-P